DEPARTMENT OF COMMERCE

National Oceanic and Atmospheric Administration

[RTID 0648-XD815]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of the Habitat and Ecosystem Advisory Panel on April 22-24, 2024, and a joint meeting of the Shrimp and Deepwater Shrimp Advisory Panels on April 24-25, 2024.

DATES: The Habitat and Ecosystem Advisory Panel (AP) meeting will be held April 22, 2024, from 1 p.m. until 5 p.m.; April 23, 2024, from 9 a.m. until 5 p.m.; and April 24, 2024, from 9 a.m. until 1 p.m., EDT. The Joint Shrimp AP meeting will be held April 24, 2024, from 2 p.m. until 5 p.m. and April 25, 2024, from 8:30 a.m. until 5 p.m., EDT.

ADDRESSES:

Meeting address: The meetings will be held at the Crown Plaza, 4831 Tanger Outlet Blvd., North Charleston, SC 29418; toll free: (866) SAFMC-10; fax: (843) 769-4520.

Council address: South Atlantic Fishery Management Council, 4055 Faber Place Drive, Suite 201, N Charleston, SC 29405.

The meetings will also be available via webinar. Registration is required. Webinar registration, an online public comment form, and briefing book materials will be available two weeks prior to the meeting at: https://safmc.net/advisory-panel-meetings/.

FOR FURTHER INFORMATION CONTACT: Kathleen Howington, Habitat and Ecosystem Scientist, Kathleen.howington@safmc.net; phone: (843) 725-7580 and Allie Iberle, Fishery Scientist, email: allie.iberle@safmc.net; phone: (843) 225-8135.

SUPPLEMENTARY INFORMATION:

Habitat and Ecosystem Advisory Panel

The Habitat and Ecosystem AP will review progress on the Essential Fish Habitat (EFH) 5-Year Review, review progress on integrating wind energy into the Council's Energy Policy, prepare an annual habitat activities report, review website progress, and receive an update on the Council's Citizen Science program. The AP will also discuss wind farm removal, Indian River Lagoon concerns, and the potential implications of Sackett vs Environmental Protection Agency. The AP will provide recommendations to the Council on other topics as needed.

Joint Shrimp and Deepwater Shrimp Advisory Panels

The Shrimp and Deepwater Shrimp APs will receive an update on the Council's Citizen Science program and an update on Coral Amendment 10 addressing the shrimp fishery access area along the eastern boundary of the Oculina Bank Habitat Area of Particular Concern. AP members will provide a fishery performance report for shrimp and discuss economic issues within the South Atlantic shrimp industry. The APs will review the Giant Manta Ray Biological Opinion from NOAA Fisheries and receive presentations from the Southern Shrimp Collaborative and the Shrimp Futures Project. The APs will provide input to the Council on other topics as needed.

Special Accommodations

These meetings are physically accessible to people with disabilities. Requests for auxiliary aid should be directed to the Council office (see ADDRESSES) 5 days prior to the meeting.

Note: The times and sequence specified in this agenda are subject to change.

Authority: 16 U.S.C. 1801 et seq.

Dated: April 1, 2024.
Rey Israel Marquez,
Acting Deputy Director, Office of Sustainable Fisheries, National Marine Fisheries Service.

[FR Doc. 2024-07185 Filed 4-3-24; 8:45 am]

BILLING CODE 3510-22-P